DEPARTMENT OF LABOR

Employment and Training Administration

[TA-W-65,844]

Murphy Veneer, White City, OR; Notice of Termination of Investigation

Pursuant to Section 221 of the Trade Act of 1974, as amended, an investigation was initiated on April 24, 2009 in response to a petition on behalf of workers of Murphy Veneer, White City, Oregon.

The petitioners have requested that the petition be withdrawn. Consequently, the investigation has been terminated.

Signed at Washington, DC, this 11th day of May 2009.
Linda G. Poole,
Certifying Officer, Division of Trade Adjustment Assistance.

[FR Doc. E9-13909 Filed 6-12-09; 8:45 am]

BILLING CODE 4510-FN-P